INTERNATIONAL TRADE COMMISSION

[USITC SE-18-019]

Government in the Sunshine Act Meeting Notice

Agency Holding the Meeting: United States International Trade Commission.

Time and Date: April 20, 2018 at 11:00 a.m.

Place: Room 101, 500 E Street SW, Washington, DC 20436, Telephone: (202) 205-2000.

Status: Open to the public.

Matters to be Considered:

1. Agendas for future meetings: None.

2. Minutes.

3. Ratification List.

4. Vote in Inv. Nos. 701-TA-601 and 731-TA-1411 (Preliminary) (Laminated Woven Sacks from Vietnam). The Commission is currently scheduled to complete and file its determinations on April 23, 2018; views of the Commission are currently scheduled to be completed and filed on April 30, 2018.

5. Outstanding action jackets: None.

In accordance with Commission policy, subject matter listed above, not disposed of at the scheduled meeting, may be carried over to the agenda of the following meeting. Earlier notification of this meeting was not possible.

By order of the Commission.
Issued: April 16, 2018.
William Bishop,
Supervisory Hearings and Information Officer.

[FR Doc. 2018-08221 Filed 4-16-18; 4:15 pm]

BILLING CODE 7020-02-P